DEPARTMENT OF TRANSPORTATION

Federal Aviation Administration

14 CFR Part 39

[Docket No. FAA-2014-0007; Directorate Identifier 2012-NM-038-AD]

RIN 2120-AA64

Airworthiness Directives; Fokker Services B.V. Airplanes

AGENCY: Federal Aviation Administration (FAA), DOT.

ACTION: Notice of proposed rulemaking (NPRM).

SUMMARY: We propose to adopt a new airworthiness directive (AD) for all Fokker Services B.V. Model F.28 Mark 0070 and 0100 airplanes. This proposed AD was prompted by reports that the bracket of the rod in the carbon fiber reinforced plastic (CFRP) main landing gear (MLG) outboard door had detached. In addition, we received reports of broken recessed heads on titanium attachment bolts of the operating rod brackets on the modified CFRP MLG outboard doors. This proposed AD would require a detailed inspection of the CFRP MLG outboard door for play or cracks in the recessed countersunk heads of the operating rod bracket attachment bolts; replacement of the bolt if necessary; and, for certain airplanes, modification of the CFRP MLG outboard doors and attachment to the MLG. We are proposing this AD to detect and correct the affected MLG from moving to the down and locked position, which could result in MLG collapse during landing or roll-out, and consequent damage to the airplane and injury to passengers.

DATES: We must receive comments on this proposed AD by March 20, 2014.

ADDRESSES: You may send comments by any of the following methods:

• Federal eRulemaking Portal: Go to http://www.regulations.gov. Follow the instructions for submitting comments.

• Fax: (202) 493-2251.

• Mail: U.S. Department of Transportation, Docket Operations, M-30, West Building Ground Floor, Room W12-140, 1200 New Jersey Avenue SE., Washington, DC 20590.

• Hand Delivery: U.S. Department of Transportation, Docket Operations, M-30, West Building Ground Floor, Room W12-140, 1200 New Jersey Avenue SE., Washington, DC, between 9 a.m. and 5 p.m., Monday through Friday, except Federal holidays.

For service information identified in this proposed AD, contact Fokker Services B.V., Technical Services Dept., P.O. Box 1357, 2130 EL Hoofddorp, the Netherlands; telephone +31 (0)88-6280-350; fax +31 (0)88-6280-111; email technicalservices@fokker.com; Internet http://www.myfokkerfleet.com. You may view this referenced service information at the FAA, Transport Airplane Directorate, 1601 Lind Avenue SW., Renton, WA. For information on the availability of this material at the FAA, call 425-227-1221.

Examining the AD Docket

You may examine the AD docket on the Internet at http://www.regulations.gov; or in person at the Docket Management Facility between 9 a.m. and 5 p.m., Monday through Friday, except Federal holidays. The AD docket contains this proposed AD, the regulatory evaluation, any comments received, and other information. The street address for the Docket Operations office (telephone (800) 647-5527) is in the ADDRESSES section. Comments will be available in the AD docket shortly after receipt.

FOR FURTHER INFORMATION CONTACT: Tom Rodriguez, Aerospace Engineer, International Branch, ANM-116, Transport Airplane Directorate, FAA, 1601 Lind Avenue SW., Renton, WA 98057-3356; telephone (425) 227-1137; fax (425) 227-1149.

SUPPLEMENTARY INFORMATION:

Comments Invited

We invite you to send any written relevant data, views, or arguments about this proposed AD. Send your comments to an address listed under the ADDRESSES section. Include “Docket No. FAA-2014-0007; Directorate Identifier 2012-NM-038-AD” at the beginning of your comments. We specifically invite comments on the overall regulatory, economic, environmental, and energy aspects of this proposed AD. We will consider all comments received by the closing date and may amend this proposed AD based on those comments.

We will post all comments we receive, without change, to http://www.regulations.gov, including any personal information you provide. We will also post a report summarizing each substantive verbal contact we receive about this proposed AD.

Discussion

The European Aviation Safety Agency (EASA), which is the Technical Agent for the Member States of the European Community, has issued Airworthiness Directive 2012-0023, dated February 6, 2012 (referred to after this as the Mandatory Continuing Airworthiness Information, or “the MCAI”), to correct an unsafe condition for the specified products. The MCAI states:

In 2005, several occurrences were reported where the bracket of the rod in the Carbon Fibre Reinforced Plastic (CFRP) MLG outboard door had detached, preventing the MLG to lock properly when selected down. Prompted by these reports, CAA-NL [Civil Aviation Authority-Netherlands] issued AD NL-2006-001 (EASA approval 2006-0002) to require the inspection and modification of the attachment of the operating rod bracket as detailed in Fokker Service Bulletin (SB) SBF100-52-080.

After that [EASA] AD was issued, several operators reported broken recessed heads of titanium attachment bolts of the operating rod bracket on modified (i.e. post-SBF100-52-080) CFRP MLG outboard doors. In such a situation, the remaining bolt shafts can get pulled through the external repair patch and the carbon fibre door outer skin, causing the operating rod, with the detached bracket, to get stuck between the MLG main fitting and wing lower skin. The primary factor to the cause of breaking bolt heads has been determined to be incorrect adjustment of the MLG outboard door.

This condition, if not detected and corrected, would prevent the affected MLG from moving to the down and locked position, possibly resulting in MLG collapse during landing or roll-out and consequent damage to the aeroplane and/or injury to the occupants.

To address this potential unsafe condition, Fokker Services has published SBF100-52-090, providing modification instructions to install an improved attachment of the MLG outboard door operating rod.

For the reasons described above, this new [EASA] AD requires a one-time detailed inspection for play or cracks in the recessed bolt heads and, depending on findings, applicable corrective actions, modification of the operating rod bracket attachment to the CFRP MLG outboard door, and introduction of a weaker (aluminium) bolt in the attachment of the MLG outboard door operating rod.

You may examine the MCAI in the AD docket on the Internet at http://www.regulations.gov by searching for and locating it in Docket No. FAA-2014-0007.

Relevant Service Information

Fokker Services B.V. has issued the following service information:

• Fokker Component Service Bulletin D13312-52-09, December 12, 2005;

• Fokker Component Service Bulletin D13312-52-015, dated November 17, 2011; and

• Fokker Service Bulletin SBF100-52-090, dated November 17, 2011, including Fokker Manual Change Notification F100-147, dated October 28, 2011, and Fokker Service Bulletin Change Notification SBF100-52-090101, dated January 24, 2012.

The actions described in this service information are intended to correct the unsafe condition identified in the MCAI.

FAA's Determination and Requirements of This Proposed AD

This product has been approved by the aviation authority of another country, and is approved for operation in the United States. Pursuant to our bilateral agreement with the State of Design Authority, we have been notified of the unsafe condition described in the MCAI and service information referenced above. We are proposing this AD because we evaluated all pertinent information and determined an unsafe condition exists and is likely to exist or develop on other products of the same type design.

Differences Between This Proposed AD and the MCAI or Service Information

Paragraph (2) of the MCAI specifies to “accomplish one of the actions specified in paragraph B of part 1 of the accomplishment instructions of Fokker Services SBF100-52-090” before further flight. However, this proposed AD requires (before further flight) replacing the operating rod bracket attachment with a new bolt, in accordance with the Accomplishment Instructions of Fokker Service Bulletin SBF100-52-090, dated November 17, 2011, including Fokker Manual Change Notification F100-147, dated October 28, 2011, including Fokker Service Bulletin Change Notification SBF100-52-090101, dated January 24, 2012. This difference has been coordinated with EASA.

Costs of Compliance

We estimate that this proposed AD affects 4 airplanes of U.S. registry.

We estimate the following costs to comply with this proposed AD:

Estimated Costs
Action | Labor cost | Parts cost | Cost per product | Cost on U.S. operators
Modification | 12 work-hours × $85 per hour = $1,020 | $10,000 | $11,020 | $44,080

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This proposed regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

Fokker Services B.V.: Docket No. FAA-2014-0007; Directorate Identifier 2012-NM-038-AD.

(a) Comments Due Date

We must receive comments by March 20, 2014.

(b) Affected ADs

None.

(c) Applicability

This AD applies to Fokker Services B.V. Model F.28 Mark 0070 and 0100 airplanes, certificated in any category, all serial numbers.

(d) Subject

Air Transport Association (ATA) of America Code 52, Doors.

(e) Reason

This AD was prompted by reports that the bracket of the rod in the carbon fiber reinforced plastic (CFRP) main landing gear (MLG) outboard door had detached. In addition, we received reports of broken recessed heads on titanium attachment bolts of the operating rod brackets on the modified CFRP MLG outboard doors. We are issuing this AD to detect and correct the affected MLG from moving to the down and locked position, which could result in MLG collapse during landing or roll-out, and consequent damage to the airplane and injury to passengers.

(f) Compliance

Comply with this AD within the compliance times specified, unless already done.

(g) Inspection

Within 9 months after the effective date of this AD, do a detailed inspection of the CFRP MLG outboard door for play and cracks in the recessed countersunk heads of the operating rod bracket attachment bolts, in accordance with Part 1 of the Accomplishment Instructions of Fokker Service Bulletin SBF100-52-090, dated November 17, 2011, including Fokker Manual Change Notification F100-147, dated October 28, 2011, and Fokker Service Bulletin Change Notification SBF100-52-090101, dated January 24, 2012.

(h) Corrective Action

If, during the inspection required by paragraph (g) of this AD, any play or crack is found in any countersunk bolt head, and the configuration deviation list (CDL) item 52-07 cannot be applied: Before further flight, replace the bolt with a new bolt, in accordance with the Accomplishment Instructions of Fokker Service Bulletin SBF100-52-090, dated November 17, 2011, including Fokker Manual Change Notification F100-147, dated October 28, 2011, and Fokker Service Bulletin Change Notification SBF100-52-090101, dated January 24, 2012.

(i) Modification Prior to CFRP Door Installation

At the applicable time specified in paragraph (i)(1) or (i)(2) of this AD: Modify the CFRP MLG outboard doors and attachment to the MLG, in accordance with Part 2 of the Accomplishment Instructions of Fokker Service Bulletin SBF100-52-090, dated November 17, 2011, including Fokker Manual Change Notification F100-147, dated October 28, 2011, and Fokker Service Bulletin Change Notification SBF100-52-090101, dated January 24, 2012. Accomplishing the modification in this paragraph terminates the inspection required by paragraph (g) of this AD.

(1) For airplanes on which a CFRP MLG outboard door is installed as of the effective date of this AD: Do the modification within 24 months after the effective date of this AD.

(2) For airplanes on which an aluminum door is installed as of the effective date of this AD: Do the modification prior to the installation of the CFRP MLG outboard door.

Note 1 to paragraph (i) of this AD: The aluminum MLG outboard doors and the CFRP MLG outboard doors are two-way interchangeable.

(j) Parts Installation Prohibition

As of the effective date of this AD, do not install on any airplane a MLG outboard door having part number (P/N) D13310-401 through -418 or any MLG outboard door assembly having P/N D13312-401 through -410.

Note 2 to paragraph (j) of this AD: Civil Aviation Authority-Netherlands (CAA-NL) AD NL-2006-001 (European Aviation Safety Agency (EASA) approval 2006-002) contains the information on how to modify all spare MLG outboard door assemblies having P/N D13312-401 through -410, to P/N D13312-7XX standard, as specified in the Accomplishment Instructions of Fokker Component Service Bulletin D13312-52-09, December 12, 2005.

(k) Parts Installation Limitation

As of the effective date of this AD, do not install on any airplane a P/N D13310-701 through-708 MLG outboard door or a P/N D13312-702 through-711 MLG outboard door assembly, unless the part has been inspected for cracks in the recessed bolt heads, all applicable corrective actions have been done, and the CFRP MLG outboard door has been modified, in accordance with the Accomplishment Instructions of Fokker Component Service Bulletin D13312-52-015, dated November 17, 2011.

(l) Other FAA AD Provisions

The following provisions also apply to this AD:

(1) Alternative Methods of Compliance (AMOCs): The Manager, International Branch, ANM-116, Transport Airplane Directorate, FAA, has the authority to approve AMOCs for this AD, if requested using the procedures found in 14 CFR 39.19. In accordance with 14 CFR 39.19, send your request to your principal inspector or local Flight Standards District Office, as appropriate. If sending information directly to the International Branch, send it to ATTN: Tom Rodriguez, Aerospace Engineer, International Branch, ANM-116, Transport Airplane Directorate, FAA, 1601 Lind Avenue SW., Renton, WA 98057-3356; telephone (425) 227-1137; fax (425) 227-1149. Information may be emailed to: 9-ANM-116-AMOC-REQUESTS@faa.gov. Before using any approved AMOC, notify your appropriate principal inspector, or lacking a principal inspector, the manager of the local flight standards district office/certificate holding district office. The AMOC approval letter must specifically reference this AD.

(2) Airworthy Product: For any requirement in this AD to obtain corrective actions from a manufacturer, use these actions if they are FAA-approved. Corrective actions are considered FAA-approved if they were approved by the State of Design Authority (or its delegated agent, or the DAH with a State of Design Authority's design organization approval). For a repair method to be approved, the repair approval must specifically refer to this AD. You are required to ensure the product is airworthy before it is returned to service.

(m) Related Information

(1) Refer to Mandatory Continuing Airworthiness Information EASA Airworthiness Directive 2012-0023, dated February 6, 2012, for related information. This MCAI may be found in the AD docket on the Internet at http://www.regulations.gov by searching for and locating it in Docket No. FAA-2014-0007.

(2) For service information identified in this AD, contact Fokker Services B.V., Technical Services Dept., P.O. Box 1357, 2130 EL Hoofddorp, the Netherlands; telephone +31 (0)88-6280-350; fax +31 (0)88-6280-111; email technicalservices@fokker.com; Internet http://www.myfokkerfleet.com. You may view this service information at the FAA, Transport Airplane Directorate, 1601 Lind Avenue SW., Renton, WA. For information on the availability of this material at the FAA, call 425-227-1221.

Issued in Renton, Washington, on January 22, 2014.
Jeffrey E. Duven,
Manager, Transport Airplane Directorate, Aircraft Certification Service.

[FR Doc. 2014-02161 Filed 1-31-14; 8:45 am]

BILLING CODE 4910-13-P